DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 16514-16515 dated March 15, 2013).

This notice reflects organizational changes in the Health Resources and Services Administration (HRSA). Specifically, the Office of Management (RB4) will realign the Voluntary Leave Transfer Program from the Division of Management Services (RB43) to the Division of Human Resources Management (RB42) and update the functional statements for the Office of Management (RB4). These changes are to better align functional responsibility, improve accountability and to provide better customer service to both internal and external customers.

Chapter RB4—Office of Management

Section RB-10, Organization

Section RB-20, Functions

Delete in its entirety and replace with the following:

The Office of Management (RB4) is headed by the Director, Office of Management, who reports directly to the Chief Operating Officer, Office of Operations (RB). The Office of Management includes the following components:

(1) Division of Policy and Information Coordination (RB41);

(2) Division of Human Resources Management (RB42);

(3) Division of Management Services (RB43); and

(4) Division of Workforce Development (RB44).

(1) Delete the functional statement for the Office of Management (RB4) in its entirety and replace with the following:

Office of Management (RB4)

Provides HRSA-wide leadership, program direction, and coordination of all phases of administrative management. Specifically, the Office of Management: (1) Provides management expertise, staff advice, and support to the Administrator in program and policy formulation and execution; (2) provides administrative management services including human resources, property management, space planning, safety, physical security, and general administrative services; (3) conducts HRSA-wide workforce analysis studies and surveys; (4) plans, directs, and coordinates HRSA's activities in the areas of human resources management, including labor relations, personnel security, and performance; (5) coordinates the development of policy and regulations; (6) oversees the development of annual operating objectives and coordinates HRSA work planning and appraisals; (7) directs and coordinates the agency's organizations, functions and delegations of authority programs; (8) administers the agency's Executive Secretariat and committee management functions; (9) provides staff support to the agency Chief Travel Official; (10) provides staff support to the Deputy Ethics Counselor; and (11) directs, coordinates, and conducts workforce development activities for the agency.

Division of Policy and Information Coordination (RB41)

(1) Advises the Administrator and other key agency officials on cross-cutting policy issues and assists in the identification and resolution of cross-cutting policy issues and problems; (2) establishes and maintains tracking systems that provide HRSA-wide coordination and clearance of policies, regulations and guidelines; (3) plans, organizes and directs the Executive Secretariat with primary responsibility for preparation and management of written correspondence; (4) arranges briefings for Department officials on critical policy issues and oversees the development of necessary briefing documents; (5) coordinates the preparation of proposed rules and regulations relating to HRSA programs and coordinates review and comment on other Department regulations and policy directives that may affect HRSA programs; (6) oversees and coordinates the committee management activities; and (7) coordinates the review and publication of Federal Register Notices.

Division of Human Resources Management (RB42)

(1) Provides advice and guidance on all aspects of the HRSA human resources management program; (2) provides the full range of human resources operations including: Employment; staffing and recruitment; compensation; classification; executive resources; labor and employee relations; employee benefits; and retirement; (3) develops and coordinates the implementation of human resources policies and procedures for HRSA's human resources activities; (4) monitors, evaluates, and reports on the effectiveness, efficiency, and compliance with HR laws, rules, and regulations; (5) provides advice and guidance for the establishment or modification of organization structures, functions, and delegations of authority; (6) manages the ethics program; (7) administers the agency's performance management programs; (8) manages the incentive and honor awards programs; (9) represents HRSA in human resources matters both within and outside of the Department; (10) oversees the commissioned corps liaison activities including the day-to-day operations of workforce management; (11) monitors accountability; and (12) manages the HR information technology.

Division of Management Services (RB43)

Plans, directs, and coordinates agency administrative activities. Specifically: (1) Provides administrative management services including property, space planning, safety, physical security, and general administrative services; (2) ensures implementation of statutes, Executive Orders, and regulations related to official travel, transportation, and relocation; (3) provides oversight for the HRSA travel management program involving use of travel management systems, passenger transportation, and travel charge cards; (4) provides planning, management, and oversight of all space planning projects, move services and furniture requirements; (5) develops space and furniture standards and related policies; (6) provides analysis of office space requirements required in supporting decisions relating to the acquisition of commercial leases; (7) provides advice, counsel, direction, and support to employees to fulfill the agency's primary safety responsibility of providing a workplace free from recognizable safety and health concerns; (8) manages, controls, and/or coordinates all matters relating to mail management within HRSA, including developing and implementing procedures for the receipt, delivery, collection, and dispatch of mail; (9) maintains overall responsibility for the HRSA Forms Management Program; and (10) manages the personnel security, badging, Transhare and quality of work life programs.

Division of Workforce Development (RB44)

(1) Plans, directs, and manages HRSA-wide training programs, intern, professional and leadership development programs, the long-term training program, and the mentoring program; (2) develops, designs, and implements a comprehensive strategic human resource leadership development and career management program for all occupational series throughout HRSA; (3) provides technical assistance in organizational development, career management, employee development, and training; (4) maximizes economies of scale through systematic planning and evaluation of agency-wide training initiatives to assist HRSA employees in achieving required competencies; (5) identifies relevant scanning/benchmarking on workforce and career development processes, services and products; (6) establishes policies governing major learning initiatives and new learning activities, and works collaboratively with other components of HRSA in planning, developing and implementing policies related to training initiatives; (7) plans, directs, and manages HRSA-wide training and service programs for fellowships and internships sponsored by other partner organizations and implemented within HRSA; (8) conducts agency-wide workforce analysis studies and surveys; (9) develops comprehensive workforce strategies that meet the requirements of the Office of Personnel Management and the Department of Health and Human Services, programmatic needs of HRSA, and the governance and management needs of HRSA leadership; and (10) evaluates employee development practices to develop and enhance strategies to ensure HRSA retains a cadre of public health professionals and reduces risks associated with turnover in mission critical positions.

Section RB4-30, Delegations of Authority

All delegations of authority and re-delegations of authority made to HRSA officials that were in effect immediately prior to this reorganization, and that are consistent with this reorganization, shall continue in effect pending further re-delegation.

This reorganization is effective upon date of signature.

Dated: May 15, 2013.
Mary K. Wakefield,
Administrator.

[FR Doc. 2013-12761 Filed 5-29-13; 8:45 am]

BILLING CODE 4165-15-P